DEPARTMENT OF TRANSPORTATION

Federal Railroad Administration

[Docket Number FRA-2010-0001]

Notice of Petition for Extension of Waiver of Compliance

AGENCY: Federal Railroad Administration (FRA), Department of Transportation (DOT).

ACTION: Notice.

SUMMARY: This document provides the public notice that Santa Cruz Big Trees & Pacific Railroad (SCBG) petitioned FRA for an extension of relief from certain regulations concerning stenciling and reflectorization of rail cars.

DATES: FRA must receive comments on the petition by August 11, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Check Kam, Railroad Safety Specialist, FRA Motive Power & Equipment Division, telephone: 202-366-2139, email: check.kam@dot.gov.

SUPPLEMENTARY INFORMATION: Under part 211 of title 49 Code of Federal Regulations (CFR), this document provides the public notice that by letters received May 19, 2025, and June 26, 2025, SCBG petitioned FRA for an extension of a special approval pursuant to 49 CFR part 215 (Railroad Freight Car Safety Standards), and a waiver of compliance from certain provisions of the Federal railroad safety regulations contained in parts 215 and 224 (Reflectorization of Rail Freight Rolling Stock). The relevant Docket Number is FRA-2010-0001.

Specifically, SCBG requests to extend the previous special approval pursuant to § 215.203, Restricted cars, in this docket for eight cars (SCBG 501-504 and SCBG 701-705) that are more than 50 years from the dates of original construction. SCBG also seeks extended relief from § 215.303, Stenciling of restricted cars, and the reflectorization requirements of part 224. In support of its request, SCBG explains that the cars will be used in excursion service, during the daytime, and at a maximum speed of 10 miles per hour. Further, SCBG explains this is “an insular rail line with no interchange of other railways” and the cars will only be operated on SCBG track and a one-mile section of Santa Cruz County RTC joint track.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by August 11, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-12940 Filed 7-10-25; 8:45 am]

BILLING CODE 4910-06-P